DEPARTMENT OF ENERGY

Proposed Agency Information Collection

AGENCY: Office of Energy Efficiency and Renewable Energy, U.S. Department of Energy.

ACTION: Submission for Office of Management and Budget (OMB) review; comment request.

SUMMARY: The U.S. Department of Energy (DOE) invites public comment on a proposed collection of information that DOE is developing for submission to OMB pursuant to the Paperwork Reduction Act of 1995.

DATES: Comments regarding this proposed information collection must be received on or before April 2, 2026. If you anticipate that you will be submitting comments but find it difficult to do so within the period of time allowed by this notice, please advise the DOE Desk Officer at OMB of your intention to make a submission as soon as possible. The Desk Officer may be telephoned at (202) 395-4718.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection instrument and instructions should be directed to John Cabaniss, 1000 Independence Ave. SW, Washington, DC 20585, 202-287-5531, or by email at EERE_Bioenergy@ee.doe.gov. Email communication is preferred.

SUPPLEMENTARY INFORMATION: Comments are invited on: (a) whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: “New;”

(2) Information Collection Request Title: Section 45Z Emissions Value Request;

(3) Type of Request: New;

(4) Purpose: DOE seeks to collect section 45Z Emissions Value Requests (EVR) and required supporting documents from fuel producers to provide an emissions value. Transportation fuel producers may use this emissions value to petition the Secretary of the Treasury for a Provisional Emissions Rate to claim the section 45Z tax credit. DOE will share relevant information collected with one or more National Laboratories as needed so those Laboratories can perform the required emissions analysis. Likely respondents include owners of facilities that produce transportation fuel as defined in 26 U.S.C. 45Z;

(5) Annual Estimated Number of Respondents: 30;

(6) Annual Estimated Number of Total Responses: 30;

(7) Annual Estimated Number of Burden Hours: 1,200;

(8) Annual Estimated Reporting and Recordkeeping Cost Burden: $127,440.

Statutory Authority: 26 U.S.C. 45Z.

Signing Authority

This document of the Department of Energy was signed on February 22, 2026, by Audrey Robertson, Assistant Secretary of Energy (EERE), The Office of Critical Minerals and Energy Innovation, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on February 25, 2026.
Jennifer Hartzell,
Alternate Federal Register Liaison Officer, U.S. Department of Energy.

[FR Doc. 2026-04143 Filed 3-2-26; 8:45 am]

BILLING CODE 6450-01-P